DEPARTMENT OF ENERGY

Federal Energy Regulatory Commission

[Docket Nos. RP91-203-073 and RP92-132-061]

Tennessee Gas Pipeline Company; Notice of Tariff Sheets

June 4, 2004.

Take notice that on May 28, 2004, Tennessee Gas Pipeline Company, (Tennessee) tendered for filing as part of its FERC Gas Tariff, Fifth Revised Volume No. 1, the tariff sheets listed on Appendix A to the filing, to be made effective July 1, 2004.

Tennessee states that pursuant to the May 15, 1995, comprehensive settlement in the referenced proceeding, which relates to Tennessee's recovery of the costs of remediating polychlorinated biphenyl (PCB) and other hazardous substance list contamination on its system (Settlement), Tennessee is seeking to extend the PCB Adjustment Period for twenty-four mouths as provided for in the Settlement. Tennessee further states that it is submitting revised tariff sheets to update its rate sheet footnote pertaining to the PCB Adjustment Period and to reflect the extension of the PCB Adjustment Period proposed in the filing.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Linda Mitry,
Acting Secretary.

[FR Doc. E4-1331 Filed 6-9-04; 8:45 am]

BILLING CODE 6717-01-P